NATIONAL LABOR RELATIONS BOARD

Sunshine Act Meetings: May 2011

TIME AND DATES: All meetings are held at 2:30 p.m.

Tuesday, May 3; Wednesday, May 4; Thursday, May 5; Tuesday, May 10; Wednesday, May 11;Thursday, May 12; Tuesday, May 17; Wednesday, May 18; Thursday, May 19; Tuesday, May 24; Wednesday, May 25; Thursday, May 26; Tuesday, May 31.

PLACE: Board Agenda Room, No. 11820, 1099 14th St., NW., Washington DC 20570.

STATUS: Closed.

MATTERS TO BE CONSIDERED: Pursuant to § 102.139(a) of the Board's Rules and Regulations, the Board or a panel thereof will consider “the issuance of a subpoena, the Board's participation in a civil action or proceeding or an arbitration, or the initiation, conduct, or disposition * * * of particular representation or unfair labor practice proceedings under section 8, 9, or 10 of the [National Labor Relations] Act, or any court proceedings collateral or ancillary thereto.” See also 5 U.S.C. 552b(c)(10).

CONTACT PERSON FOR MORE INFORMATION: Lester A. Heltzer, Executive Secretary, (202) 273-1067.

Dated: May 2, 2011.
Lester A. Heltzer,
Executive Secretary.

[FR Doc. 2011-10992 Filed 5-2-11; 4:15 pm]

BILLING CODE 7545-01-P